DEPARTMENT OF TRANSPORTATION

Federal Transit Administration

Transfer of Federally Assisted Facility

AGENCY: Federal Transit Administration, DOT.

ACTION: Notice of intent to transfer Federally assisted facility.

SUMMARY: Section 5334(h) of the Federal Transit Laws, as codified, 49 U.S.C. 5301, et. seq., permits the Administrator of the Federal Transit Administration (FTA) to authorize a recipient of FTA funds to transfer land or a facility to a public body for any public purpose with no further obligation to the Federal Government if, among other things, no Federal agency is interested in acquiring the asset for Federal use. Accordingly, FTA is issuing this Notice to advise Federal agencies that the City of Charlottesville (City) intends to transfer a facility and land located at 315 4th Street, NW., Charlottesville, Virginia to the Charlottesville Facilities Maintenance Division of Public Works. The facility and land sit within a secure Public Works Yard and any other acquiring agency would need access to use this property.

DATES: Effective Date: Any Federal agency interested in acquiring the facility must notify the FTA Region III office of its interest by January 7, 2011.

ADDRESSES: Interested parties should notify the Regional Office by writing to Letitia Thompson, Regional Administrator, Federal Transit Administration, 1760 Market Street, Suite 500, Philadelphia, PA, 19103.

FOR FURTHER INFORMATION CONTACT: Jay M. Fox, Regional Counsel, (215) 656-7258.

SUPPLEMENTARY INFORMATION:

Background

49 U.S.C. 5334(h) provides guidance on the transfer of capital assets. Specifically, if a recipient of FTA assistance decides an asset acquired under this chapter at least in part with that assistance is no longer needed for the purpose for which it was acquired, the Secretary of Transportation may authorize the recipient to transfer the asset to a local governmental authority to be used for a public purpose with no further obligation to the Government. 49 U.S.C. 5334(h)(1).

Determinations

The Secretary may authorize a transfer for a public purpose other than mass transportation only if the Secretary decides:

(A) The asset will remain in public use for at least 5 years after the date the asset is transferred;

(B) There is no purpose eligible for assistance under this chapter for which the asset should be used;

(C) The overall benefit of allowing the transfer is greater than the interest of the Government in liquidation and return of the financial interest of the Government in the asset, after considering fair market value and other factors; and

(D) Through an appropriate screening or survey process, that there is no interest in acquiring the asset for Government use if the asset is a facility or land.

Federal Interest in Acquiring Land or Facility

This document implements the requirements of 49 U.S.C. 5334(h)(1)(D) of the Federal Transit Laws. Accordingly, FTA hereby provides notice of the availability of the facility further described below. Any Federal agency interested in acquiring the affected facility should promptly notify the FTA. If no Federal agency is interested in acquiring the existing facility, FTA will make certain that the other requirements specified in 49 U.S.C. Section 5334(h)(1)(A) through (C) are met before permitting the asset to be transferred.

Additional Description of Land or Facility

The facility is a former bus operations and maintenance building situated on an approximately 41,245 square foot City-owned parcel, and is located at 315 4th Street, NW., in Charlottesville, Virginia. The building is within an area zoned M1 for light industrial use. The immediate area consists of residential, commercial and light industrial properties. The facility was previously used for transit bus operations and maintenance. The facility is a flex-type building which includes a front office and/or administration section and a large attached multi-purpose shop or warehouse rear section, for a total building coverage of approximately 8,000 square feet. The facility resides on a roughly triangular shaped parcel consisting of perimeter dimensions of 134 feet on its east side, 514 feet on its south side, 0 feet on its west side and 508 feet on its north side. The entire facility is contained within the fenced and secured City of Charlottesville Public Works Yard, and includes no street frontage. The north side of the facility is bounded by the Southern Railway embankment and it is slightly inclined and above-grade in relation to the adjoining Public Works Yard. The railway embankment to the north of the buildings is steep, wooded, and at an elevation approximately 40 feet higher relative to the paved areas.

The building improvements consist of concrete foundations, basic concrete slab floors, enameled metal side walls, sloped metal roof with gutters and downspouts and various entry doors and glass windows. The front office section has dimensions of 20 feet wide and 100 feet long for a total enclosed ground floor area of 2,000 square feet. The interior includes work areas, four individual offices, a utility room, a break area, two lavatory and shower rooms, small closets and storage rooms. The rear building section has exterior dimensions of 60 feet wide by 100 feet long with ground floor coverage of 6,000 square feet. The space is generally open, but includes a partitioned storage area of approximately 6,700 square feet of ground floor area with an additional mezzanine level of approximately 500 square feet. The rear building section has a concrete slab floor, exposed metal sidewalls and six large metal vehicular size roll-up doors. Miscellaneous site improvements include approximately 23,000 square feet of asphalt surfaced vehicular parking and maneuvering areas and assorted small unpaved areas. The general condition of the building appears in fair to good overall condition from an architectural and structural standpoint and is approximately 33 years old.

Issued on December 9, 2010.
Letitia A, Thompson,
Regional Administrator.

[FR Doc. 2010-31374 Filed 12-13-10; 8:45 am]

BILLING CODE 4910-57-P